DEPARTMENT OF TRANSPORTATION

Federal Aviation Administration

14 CFR Part 97

[Docket No. 30591; Amdt. No. 3254]

Standard Instrument Approach Procedures, and Takeoff Minimums and Obstacle Departure Procedures; Miscellaneous Amendments

AGENCY: Federal Aviation Administration (FAA), DOT.

ACTION: Final rule.

SUMMARY: This Rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 8, 2008. The compliance date for each SIAP, associated Takeoff Minimums, and ODP is specified in the amendatory provisions.

The incorporation by reference of certain publications listed in the regulations is approved by the Director of the Federal Register as of February 8, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit nfdc.FAA.gov to register. Additionally, individual SIAP and Takeoff Minimums and ODP copies may be obtained from:

1. FAA Public Inquiry Center (APA-200), FAA Headquarters Building, 800 Independence Avenue, SW., Washington, DC 20591; or

2. The FAA regional Office of the region in which the affected airport is located.

FOR FURTHER INFORMATION CONTACT: Harry. J. Hodges, Flight Procedure Standards Branch (AFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14 of the Code of Federal Regulations, Part 97 (14 CFR part 97), by establishing, amending, suspending, or revoking SIAPs, Takeoff Minimums and/or ODPs. The complete regulatory description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums and ODP listed on FAA forms is unnecessary. This amendment provides the affected CFR sections and specifies the types of SIAPs and the effective dates of the SIAPs, the associated Takeoff Minimums, and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on January 25, 2008.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and/or Takeoff Minimums and/or Obstacle Departure Procedures effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 13 MAR 2008

Ontario, CA, Ontario Intl, ILS OR LOC RWY 8L, Amdt 8A

Fairmont, MN, Fairmont Muni, ILS OR LOC RWY 31, Orig-C

Las Cruces, NM, Las Cruces Intl, ILS OR LOC RWY 30, Amdt 2A

Hobart, OK, Hobart Muni, RNAV (GPS) RWY 17, Amdt 1

Hobart, OK, Hobart Muni, RNAV (GPS) RWY 35, Amdt 1

Hobart, OK, Hobart Muni, VOR RWY 35, Amdt 9

Hobart, OK, Hobart Muni, Takeoff Minimums and Obstacle DP, Amdt 1

Blacksburg, VA, Virginia Tech/Montgomery Executive, Takeoff Minimums and Obstacle DP, Amdt 4

Roanoke, VA, Roanoke Regional/Woodrum Field, VOR/DME-A, Amdt 6

Seattle, WA, Boeing Field/King County Intl, RNAV (RNP) Z RWY 13R, Orig-A

Effective 10 APR 2008

Dothan, AL, Dothan Regional, ILS OR LOC RWY 32, Amdt 8

Dothan, AL, Dothan Regional, RNAV (GPS) RWY 14, Amdt 1

Dothan, AL, Dothan Regional, RNAV (GPS) RWY 32, Orig

Dothan, AL, Dothan Regional, VOR OR TACAN-A, Amdt 12

Dothan, AL, Dothan Regional, Takeoff Minimums and Obstacle DP, Orig

Evergreen, AL, Middleton Field, RNAV (GPS) RWY 1, Orig

Evergreen, AL, Middleton Field, RNAV (GPS) RWY 10, Orig

Evergreen, AL, Middleton Field, RNAV (GPS) RWY 19, Orig

Evergreen, AL, Middleton Field, RNAV (GPS) RWY 28, Orig

Evergreen, AL, Middleton Field, VOR/DME RWY 10, Amdt 3

Evergreen, AL, Middleton Field, Takeoff Minimums and Obstacle DP, Amdt 1

Anaktuvuk Pass, AK, Anaktuvuk Pass, RNAV (GPS)-A, Orig

Anaktuvuk Pass, AK, Anaktuvuk Pass, NDB-B, Amdt 1

Anaktuvuk Pass, AK, Anaktuvuk Pass, GPS-A, Orig, CANCELLED

Anaktuvuk Pass, AK, Anaktuvuk Pass, Takeoff Minimums and Obstacle DP, Amdt 1

Galena, AK, Edward G. Pitka, Sr. ILS OR LOC/DME RWY 25, Amdt 1A

St Mary's, AK, St. Marys, RNAV (GPS) Y RWY 17, Amdt 2

St Mary's, AK, St. Marys, RNAV (GPS) Y RWY 35, Amdt 1

St Mary's, AK, St. Marys, RNAV (GPS) Z RWY 17, Orig

St Mary's, AK, St. Marys, RNAV (GPS) Z RWY 35, Orig

St Mary's, AK, St. Marys, LOC/DME RWY 17, Amdt 4

St Mary's, AK, St. Marys, NDB RWY 35, Amdt 1

Oroville, CA, Oroville Muni, NDB RWY 1, Amdt 3, CANCELLED

Petaluma, CA, Petaluma Muni, VOR RWY 29, Orig, CANCELLED

Red Bluff, CA, Red Bluff Muni, NDB RWY 33, Amdt 2A, CANCELLED

Middletown, DE, Summit, VOR OR GPS-B Amdt 1B, CANCELLED

Preston, MN, Fillmore County, RNAV (GPS) RWY 29, Orig.

Preston, MN, Fillmore County, (GPS) RWY 29, Orig, CANCELLED

Newport, OR, Newport Muni, ILS OR LOC RWY 16, Amdt 1B

North Bend, OR, Southwest Oregon Regional, ILS OR LOC RWY 4, Amdt 6B

Myrtle Beach, SC, Myrtle Beach Intl, RADAR 1, Amdt 1C, CANCELLED

Rock Hill, SC, Rock Hill/York Co/Bryant Field, ILS OR LOC RWY 2, Amdt 1

Rock Hill, SC, Rock Hill/York Co/Bryant Field, RNAV (GPS) RWY 2, Orig

Rock Hill, SC, Rock Hill/York Co/Bryant Field, RNAV (GPS) RWY 20, Orig

Rock Hill, SC, Rock Hill/York Co/Bryant Field, GPS RWY 2, Orig-C, CANCELLED

Rock Hill, SC, Rock Hill/York Co/Bryant Field, GPS RWY 20, Orig-C, CANCELLED

Rock Hill, SC, Rock Hill/York Co/Bryant Field, VOR OR GPS-A, Amdt 9C, CANCELLED

Ogden, UT, Ogden-Hinckley, Takeoff Minimums and Obstacle DP, Amdt 2

Newport, VT, Newport State, NDB-A, Amdt 3, CANCELLED

Riverton, WY, Riverton Regional, ILS OR LOC RWY 28, Amdt 1B

Martinsburg, WV, Eastern WV Regional/Shepherd, LOC/DME BC RWY 8, Amdt 6, CANCELLED

The FAA published an Amendment in Docket No. 30587, Amdt No. 3251 to Part 97 of the Federal Aviation Regulations (Vol. 73, FR No. 16, Page 4073 dated Thursday, January 24, 2008) under section 97.29 effective March 13, 2008, which is hereby corrected to read as follows:

Waterville, ME, ILS OR LOC RWY 5, Amdt 2B

The FAA published an Amendment in Docket No. 30587, Amdt No. 3251 to Part 97 of the Federal Aviation Regulations (Vol. 73, FR No. 16, Page 4073 dated Thursday, January 24, 2008) under section 97.29 effective April 10, 2008, which is hereby rescinded:

Burlington, VT, Burlington Intl, ILS OR LOC/DME RWY 33, Amdt 1

The FAA published an Amendment in Docket No. 30587, Amdt No. 3251 to Part 97 of the Federal Aviation Regulations (Vol. 73, FR No. 16, Page 4073 dated Thursday, January 24, 2008) under section 97.29 effective February 14, 2008, which is hereby corrected to read as follows:

Omaha, NE, Epply Airfield, ILS OR LOC RWY 32L, Amdt 1

Omaha, NE, Epply Airfield, ILS OR LOC/DME RWY 14L, Amdt 1

Omaha, NE, Epply Airfield, ILS OR LOC/DME RWY 14R, ILS RWY 14R (CAT II), ILS RWY 14R (CAT III), Amdt 4

Omaha, NE, Epply Airfield, RNAV (GPS) RWY 14L, Amdt 1

Omaha, NE, Epply Airfield, Takeoff Minimums and Obstacle DP, Amdt 5

[FR Doc. 08-535 Filed 2-7-08; 8:45 am]

BILLING CODE 4910-13-M